ENVIRONMENTAL PROTECTION AGENCY

[EPA-HQ-OPP-2007-1195; FRL-8840-3]

Propetamphos; Notice of Receipt of Requests to Voluntarily Cancel Pesticide Registrations

AGENCY: Environmental Protection Agency (EPA).

ACTION: Notice.

SUMMARY: In accordance with section 6(f)(1) of the Federal Insecticide, Fungicide, and Rodenticide Act (FIFRA), as amended, EPA is issuing a notice of receipt of requests by the registrant, Wellmark International, to voluntarily cancel its registrations of products containing the pesticide propetamphos. The requests would terminate the last propetamphos products registered for use in the United States. EPA intends to grant these requests at the close of the comment period for this announcement unless the Agency receives substantive comments within the comment period that would merit its further review of the requests, or unless the registrant withdraws its requests. If these requests are granted, any sale, distribution, or use of products listed in this notice will be permitted after the registrations have been canceled only if such sale, distribution, or use is consistent with the terms as described in the final order.

DATES: Comments must be received on or before September 17, 2010.

ADDRESSES: Submit your comments, identified by docket identification (ID) number EPA-HQ-OPP-2007-1195, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2007-1195. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Monica Wait, Pesticide Re-evaluation Division (7508P), Office of Pesticide Programs, Environmental Protection Agency, 1200 Pennsylvania Ave., NW., Washington, DC 20460-0001; telephone number: (703) 347-8019; fax number: (703) 308-7070; e-mail address: wait.monica@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel

This notice announces receipt by EPA of requests from registrant Wellmark International to cancel propetamphos product registrations. Propetamphos is an organophosphate insecticide registered for use for non-residential indoor crack and crevice treatment to control crawling insects, primarily, ants, cockroaches, and fleas. The registration review process for propetamphos was initiated in June 2008, with the issuance and placement of the Summary Document and Preliminary Work Plan for Registration Review in the docket EPA-HQ-OPP-2007-1195 for a 90-day public comment period. The Propetamphos Final Work Plan for Registration Review was placed in the docket on November 25, 2008, and the registration review Data Call-In for propetamphos was issued in December 2009. Wellmark International is the only current registrant of propetamphos products.

Wellmark International’s 90-day response to the registration review Data Call-In stated their intent to seek voluntary cancellation of the propetamphos technical product (EPA Registration No. 2724-313) and the one remaining propetamphos end-use product, Zoecon 9001 EW (EPA Registration No. 2724-450). Subsequently, in a letter to the Agency dated July 23, 2010, Wellmark International requested that EPA cancel the propetamphos pesticide product registrations identified in Table 1 of Unit III. Wellmark International requested that propetamphos technical be canceled effective September 30, 2010, and the end-use product be canceled effective 18 months later on March 30, 2012. Furthermore, Wellmark International requested an 18-month existing stocks provision for use of EPA Reg. No. 2724-313 to formulate EPA Reg. No. 2724-450. For EPA Reg. No. 2724-450, Wellmark requested an existing stocks provision that would allow them to sell or distribute existing stocks of EPA Reg. No. 2724-450 until depletion and allow persons other than Wellmark International to sell, distribute, and use existing stocks of EPA Reg. No. 2724-450 until depletion. These are the last two propetamphos products registered for use in the United States.

III. What Action is the Agency Taking?

This notice announces receipt by EPA of requests from Wellmark International to cancel propetamphos product registrations. The affected products and the registrants making the requests are identified in Tables 1 and 2 of this unit.

Unless a request is withdrawn by the registrant or if the Agency determines that there are substantive comments that warrant further review of this request, EPA intends to issue an order canceling the affected registrations subject to the terms and conditions set forth below in Unit VI.

Table 1.—Propetamphos Product Registrations with Pending Requests for Cancellation
Registration Number | Product Name | Company
002724-00313 | Technical Propetamphos | Wellmark International
002724-00450 | Zoecon 9001 EW | Wellmark International

Table 2 of this unit includes the name and address of record for the registrant of the products listed in Table of this unit. The company number corresponds to the first part of the EPA registration numbers of the products listed in Table 1.

Table 2.—Registrants Requesting Voluntary Cancellation and/or Amendments
EPA Company Number | Company Name and Address
002724 | Wellmark International Attn: James McFadden 1501 E. Woodfield Rd., Suite 200 West Schaumberg, IL 60173

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The propetamphos registrant has requested that EPA waive the 180-day comment period. Accordingly, EPA will provide a 30-day comment period on the requests.

V. Procedures for Withdrawal of Requests

Registrants who choose to withdraw a request for product cancellation should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for voluntary cancellation are granted, the Agency intends to publish the cancellation order in the Federal Register.

In any order issued in response to these requests for cancellation of product registrations, EPA proposes to include the following provisions for the treatment of any existing stocks of the products listed in Table 1 of Unit III.

EPA proposes to make the cancellation of propetamphos technical (EPA Reg. No. 2724-313) effective September 30, 2010, after which date the technical product can no longer be sold or distributed. Wellmark International would be permitted to use the existing stocks of propetamphos technical (defined as quantities of EPA Reg. No. 2724-313 in existence as of September 30, 2010) to formulate the propetamphos end-use product (EPA Reg. No. 2724-450) for 18 months after the September 30, 2010 effective date of the cancellation, which would be until March 30, 2012. Thereafter, Wellmark International also would be prohibited from using (as well as continue to be prohibited from selling or distributing) propetamphos technical, except for export consistent with FIFRA section 17 or for proper disposal.

EPA proposes to make the cancellation of the propetamphos end-use product (EPA Reg. No. 2724-450) effective March 30, 2012. Wellmark International would be allowed to sell or distribute existing stocks of EPA Reg. No. 2724-450 (defined as quantities of EPA Reg. No. 2724-450 in existence as of March 30, 2012) until such stocks are depleted. Persons other than Wellmark International would be allowed to sell, distribute, and use existing stocks of EPA Reg. No 2724-450 until supplies are exhausted, provided that such sale, distribution, and use is consistent with the terms of the previously approved labeling on, or that accompanied, the canceled product.

The existing stocks provisions outlined in this notice are intended to allow depletion of the amount of technical propetamphos (EPA Reg. No. 2724-313) that Wellmark International currently has on-hand from purchases made prior to its decision to request voluntary cancellation. Use until depletion will preclude environmental disposal concerns of quantities of undiluted propetamphos that cannot be formulated or used.

List of Subjects

Environmental protection, Pesticides and pests.

Dated: August 5, 2010.
Richard P. Keigwin, Jr.,
Director, Pesticide Re-evaluation Division, Office of Pesticide Programs.

[FR Doc. 2010-20010 Filed 8-17-10; 8:45 a.m.]

BILLING CODE 6560-50-S